DEPARTMENT OF HEALTH AND HUMAN SERVICES

Administration for Children and Families

Family Violence Prevention and Services/Grants for Battered Women's Shelters and Related Assistance/Grants to Indian Tribal Organizations (Including Alaska Native Villages)

Program Office: Administration on Children, Youth, and Families (ACYF), Family and Youth Services Bureau (FYSB).

Program Announcement Number: HHS-2007-ACF-ACYF-FVPS-0124.

Announcement Title: Family Violence Prevention and Services/Grants for Battered Women's Shelters and Related Assistance/Grants to Indian Tribal Organizations (including Alaska Native Villages).

CFDA Number: 93.671.

Due Date for Applications: February 15, 2007.

Executive Summary: This announcement governs the proposed award of formula grants under the Family Violence Prevention and Services Act (FVPSA) to Indian Tribes (including Alaska Native Villages) and Tribal organizations. The purpose of these grants is to assist Tribes in establishing, maintaining, and expanding programs and projects to prevent family violence and to provide immediate shelter and related assistance for victims of family violence and their dependents.

This announcement sets forth the application requirements, the application process, and other administrative and fiscal requirements for grants in Fiscal Year (FY) 2007. Grantees are to be mindful that although the expenditure period for grants is a two-year period, an application is required every year to provide continuity in the provision of services. (See Section II. Award Information, Expenditure Periods.)

I. Description

Legislative Authority: Title III of the Child Abuse Amendments of 1984 (Public Law (Pub. L.) 98-457, 42 United States Code (U.S.C.) 10401 et seq.) is entitled the “Family Violence Prevention and Services Act” (FVPSA). FVPSA was first implemented in FY 1986. The statute was subsequently amended by P.L. 100-294, the “Child Abuse Prevention, Adoptions, and Family Services Act of 1988;” further amended in 1992 by P.L. 102-295; and then amended in 1994 by P.L. 103-322, the “Violent Crime Control and Law Enforcement Act.” FVPSA was amended again in 1996 by P.L. 104-235, the “Child Abuse Prevention and Treatment Act” (CAPTA) of 1996; in 2000 by P.L. 106-386, the “Victims of Trafficking and Violence Protection Act,” and amended further by P.L. 108-36, the “Keeping Children and Families Safe Act of 2003.” FVPSA was most recently amended by P.L. 109-162, the “Violence Against Women Reauthorization Act of 2005” and by P.L. 109-271, which was enacted on August 17, 2006.

FVPSA may be found at 42 U.S.C. 10401 et. seq.

Background

The purpose of this legislation is to assist States and Tribes or Tribal organizations in supporting the establishment, maintenance, and expansion of programs and projects to prevent incidents of family violence and to provide immediate shelter and related assistance for victims of family violence and their dependents.

During FY 2006, the U.S. Department of Health and Human Services (HHS) made 241 grants to States and Tribes or Tribal organizations. HHS also made 53 family violence prevention grant awards to non-profit State domestic violence coalitions.

In addition, HHS supports the Domestic Violence Resource Center Network (DVRN). DVRN consists of the National Resource Center for Domestic Violence (NRC) and four Special Issue Resource Centers (SIRCs). The four SIRCs are: The Battered Women's Justice Project, the Resource Center on Child Custody and Protection, the Resource Center for the Elimination of Domestic Violence Against Native Women (Sacred Circle), and the Health Resource Center on Domestic Violence. The purpose of NRC and the SIRCs is to provide resource information, training, and technical assistance to Federal, State, and Indian Tribal agencies; local domestic violence prevention programs; and other professionals who provide services to victims of domestic violence.

In February, 1996, HHS funded the National Domestic Violence Hotline (Hotline) to ensure that every woman and man has access to information and emergency assistance wherever and whenever it is needed. The Hotline is a 24-hour, toll-free service that provides crisis assistance, counseling, and local shelter referrals to women across the country. Hotline counselors also are available for non-English speaking persons and for people who are hearing-impaired. The Hotline number is 1-800-799-SAFE (7233); the TTY number for the hearing impaired is 1-800-787-3224.

General Grant Program Requirements For Tribes or Tribal Organizations

Definitions

Tribes and Tribal organizations should use the following definitions in carrying out their programs. The definitions are found in section 320 of FVPSA.

Family Violence: Any act, or threatened act, of violence, including any forceful detention of an individual, which: (a) Results or threatens to result in physical injury; and (b) is committed by a person against another individual (including an elderly person) to whom such person is, or was, related by blood or marriage, or otherwise legally related, or with whom such person is, or was, lawfully residing.

Indian Tribe and Tribal organization: Have the same meanings given such terms in section 450b of Title 25.

Shelter: The provision of temporary refuge and related assistance in compliance with applicable State law and regulation governing the provision, on a regular basis, of shelter, safe homes, meals, and related assistance to victims of family violence and their dependents.

Related assistance: The provision of direct assistance to victims of family violence and their dependents for the purpose of preventing further violence, helping such victims to gain access to civil and criminal courts and other community services, facilitating the efforts of such victims to make decisions concerning their lives in the interest of safety, and assisting such victims in healing from the effects of the violence. Related assistance includes:

(a) Prevention services such as outreach and prevention services for victims and their children, assistance to children who witness domestic violence, employment training, parenting, and other educational services for victims and their children, preventive health services within domestic violence programs (including services promoting nutrition, disease prevention, exercise, and prevention of substance abuse), domestic violence prevention programs for school-age children, family violence public awareness campaigns, and violence prevention counseling services to abusers;

(b) Counseling with respect to family violence, counseling or other supportive services provided by peers individually or in groups, and referral to community social services;

(c) Transportation, technical assistance with respect to obtaining financial assistance under Federal and State programs, and referrals for appropriate health-care services (including alcohol and drug abuse treatment), but shall not include reimbursement for any health-care services;

(d) Legal advocacy to provide victims with information and assistance through the civil and criminal courts, and legal assistance; or

(e) Children's counseling and support services, child care services for children who are victims of family violence or the dependents of such victims, and children who witness domestic violence.

The Importance of Coordination of Services

The affect of domestic violence includes physical injury and death of primary or secondary victims, psychological trauma, isolation from family and friends, harm to children witnessing or experiencing violence in homes in which the violence occurs, increased fear, reduced mobility and employability, homelessness, substance abuse, and a host of other health and related mental health consequences.

The physical and cultural obstacles existing in much of Indian country compound the basic dynamics of domestic violence. Barriers such as the isolation of vast rural areas, the concern for safety in isolated settings, and the transportation requirements over long distances, heighten the need for the coordination of the services through an often limited delivery system.

In a project intended to broaden the reach of the Indian Tribal domestic violence communities, the Indian Health Service (IHS) and FVPSA-funded programs have collaborated to oversee the development of domestic violence community projects. These projects are designed to develop improved health care responses to domestic violence and to facilitate collaboration between the local health care system and local Indian Tribal domestic violence advocacy programs (including Alaskan Village programs). In this effort, IHS also is collaborating with representatives of Mending the Sacred Hoop, Cangleska, Inc., and the Family Violence Prevention Fund to provide training, technical assistance, and oversight to the pilot projects.

To help bring about a more effective response to the problem of domestic violence, HHS urges Tribes and Tribal organizations receiving funds under this grant announcement to coordinate activities under this grant with other new and existing resources for the prevention of domestic violence.

Annual Tribal Grantee Conference

FVPSA administrators should plan to attend the annual Tribal Grantee Conference. A subsequent Program Instruction and/or Information Memorandum will advise the Tribal FVPSA Administrators of the date, time, and location of the grantee conference.

Client Confidentiality

FVPSA programs must establish or implement policies and protocols for maintaining the safety and confidentiality of the victims of domestic violence, sexual assault, and stalking. It is essential that the confidentiality of adult victims and their children receiving FVPSA services be protected. Consequently, when providing statistical data on program activities, individual identifiers of client records will not be used (section 303(a)(2)(E)).

II. Funds Available

For FY 2007, HHS will make available for grants to designated State agencies 70 percent of the amount appropriated under section 310(a)(1) of the FVPSA, which is not reserved under section 310(a)(2). In this separate announcement, HHS will allocate 10 percent of the foregoing appropriation to Tribes and Tribal organizations for the establishment and operation of shelters, safe houses, and the provision of related services. HHS also plans to make 10 percent of the foregoing appropriation available to State domestic violence coalitions to continue their work within the domestic violence community by providing technical assistance and training and advocacy services, among other activities, to local domestic violence programs to encourage appropriate responses to domestic violence within the States.

Five percent of the amount appropriated under section 310(a)(1) of the FVPSA, which is not reserved under section 310(a)(2), will be available in FY 2007 to continue the support for the NRC and the four SIRCs. Additional funds appropriated under FVPSA will be used to support other activities, including training and technical assistance, collaborative projects with advocacy organizations and service providers, data collection efforts, public education activities, research and other demonstration projects, as well as the ongoing operation of the Hotline.

Native American Tribal Allocations

Native American Tribes and Tribal organizations are eligible for funding under this program if they meet the definition of “Indian Tribe” or “Tribal organization” at 25 U.S.C. 450b, and if they are able to demonstrate their capacity to carry out family violence prevention and services programs.

Any Tribe that believes it meets the eligibility criteria should provide supportive documentation in its application and a request for inclusion on the list of eligible Tribes. (See Section IV. Application Requirements for Tribes or Tribal Organizations.)

In computing Tribal allocations, ACF will use the latest available population figures from the Census Bureau. If Census Bureau data are unavailable, ACF will use figures from the Bureau of Indian Affairs' (BIA's) Indian Population and Labor Force Report.

Because section 304 of FVPSA specifies a minimum base amount for State allocations, ACF has set a base amount for Tribal allocations. Since FY 1986, it has been, in practice, that the establishment of a base amount has facilitated ACF's efforts to make a fair and equitable distribution of limited grant funds.

Due to the expanded interest in the prevention of domestic violence and in the provision of services to victims of family violence and their dependents, an increasing number of Tribal applications have been received over the past several years. In order to ensure the continuance of an equitable distribution of family violence prevention and services funding in response to the increased number of Tribes that apply, the funding formula for the allocation of family violence funds has been adjusted.

Tribes that meet the application requirements and whose reservation and surrounding Tribal Trust Lands' population is:

• Less than or equal to 1,500 will receive a minimum base amount of $1,500;

• Between 1,501 and 3,000 will receive a minimum base amount of $3,000;

• Between 3,001 and 4,000 will receive a minimum base amount of $4,000; and,

• Between 4,001 and 5,000 will receive a minimum base amount of $5,000.

The minimum base amounts are computed in relation to the Tribe's population and the progression of an additional $1,000 per 1,000 persons if the population range continues until the Tribe's population reaches 50,000.

Tribes with a population of 50,000 to l00,000 will receive a minimum of $50,000, and Tribes with a population of 100,001 to 150,000 will receive a minimum of $100,000.

Once the base amounts have been distributed to the Tribes that have applied for FVPSA funding, the ratio of the Tribe's population to the total population of all the applicant Tribes is then considered in allocating the remainder of the funds. ACF has accounted for the variance in actual population and scope of the FVPSA programs with the distribution of a proportional amount plus a base amount to the Tribes. Under the previous allocation plan, ACF did not have a method by which to consider the variance in Tribal census counts. As in previous years, Tribes are encouraged to apply as consortia for the FVPSA funding.

Expenditure Periods

FVPSA funds may be used for expenditures on and after October 1 of each fiscal year for which they are granted, and will be available for expenditure through September 30 of the following fiscal year, i.e., FY 2007 funds may be used for expenditures from October 1, 2006 through September 30, 2008. Funds are available for obligation through September 30, 2008 and must be liquidated by September 30, 2009.

Re-allotted funds, if any, are available for expenditure until the end of the fiscal year following the fiscal year that the funds became available for re-allotment. FY 2007 grant funds that are made available to Tribes and Tribal organizations through reallotment must be expended by the grantee no later than September 30, 2008.

III. Eligibility

Tribes and Tribal organizations are eligible for funding under this program if they meet the definition of “Indian Tribe” or “Tribal organization” set forth in section 450B of Title 25 and if they are able to demonstrate their capacity to carry out a family violence prevention and services program.

Any Tribe or Tribal organization that believes it meets the eligibility criteria and should be included in the list of eligible Tribes should provide supportive documentation and a request for inclusion in its application. (See Application Content Requirements below.)

As in previous years, Tribes may apply singularly or as a consortium. In addition, a non-profit private organization, approved by a Tribe for the operation of a family violence shelter or program on a reservation is eligible for funding.

Additional Information on Eligibility

D-U-N-S Requirement

All applicants must have a D&B Data Universal Numbering System (D-U-N-S) number. On June 27, 2003, the Office of Management and Budget (OMB) published in the Federal Register a new Federal policy applicable to all Federal grant applicants. The policy requires Federal grant applicants to provide a D-U-N-S number when applying for Federal grants or cooperative agreements on or after October 1, 2003. The D-U-N-S number will be required whether an applicant is submitting a paper application or using the government-wide electronic portal, Grants.gov. A D-U-N-S number will be required for every application for a new award or renewal/continuation of an award, including applications or plans under formula, entitlement, and block grant programs, submitted on or after October 1, 2003. Please ensure that the applicant has a D-U-N-S number. To acquire a D-U-N-S number at no cost, call the dedicated toll-free D-U-N-S number request line at 1-866-705-5711 or request a number online at http://www.dnb.com.

IV. Application Requirements for Tribes and Tribal Organizations

The Paperwork Reduction Act of 1995 (Pub. L. 104-13)

Public reporting burden for this collection of information is estimated to average six hours per response, including the time for reviewing instructions, gathering and maintaining the data needed, and reviewing the collection information. The project description is approved under the Office of Management and Budget (OMB) control number 0970-0280, which expires October 31, 2008.

An agency may not conduct or sponsor, and a person is not required to respond to, a collection of information unless it displays a currently valid OMB control number.

Form and Content of Application Submission

The application from the Tribe or Tribal organization must be signed by the Chief Executive Officer or Tribal Chairperson of the applicant organization.

Each application must contain the following information or documentation:

1. The name of the organization or agency and the Chief Program Official designated as responsible for administering funds under FVPSA and coordinating related programs, and the name, telephone number, and fax number, if available, of a contact person in the designated organization or agency.

2. A copy of a current resolution stating that the designated organization or agency has the authority to submit an application on behalf of the individuals in the Tribe(s) and to administer programs and activities funded under this program (section 303(b)(2)).

3. A description of the procedures designed to involve knowledgeable individuals and interested organizations in providing services under FVPSA (section 303(b)(2)). For example, knowledgeable individuals and interested organizations may include: Tribal officials or social services staff involved in child abuse or family violence prevention, Tribal law enforcement officials, representatives of State coalitions against domestic violence, and operators of family violence shelters and service programs.

4. A description of the applicant's operation of, and/or capacity to carry out, a family violence prevention and services program. This might be demonstrated in ways such as the following:

(a) The current operation of a shelter, safe house, or family violence prevention program;

(b) The establishment of joint or collaborative service agreements with a local public agency or a private non-profit agency for the operation of family violence prevention activities or services; or

(c) The operation of social services programs as evidenced by receipt of “638” contracts with BIA; Title II Indian Child Welfare grants from BIA; Child Welfare Services grants under Title IV-B of the Social Security Act; or Family Preservation and Family Support grants under title IV-B of the Social Security Act.

5. A description of the services to be provided, how the applicant organization plans to use the grant funds to provide the direct services, to whom the services will be provided, and the expected results of the services.

6. Documentation of the procedures that assure the confidentiality of records pertaining to any individual who has been provided family violence prevention or treatment services by any program assisted under FVPSA (section 303(b)(2)).

7. The Employee Identification Number (EIN) of the applicant organization submitting the application.

Assurances

Each application must contain the following assurances:

(a) That not less than 70 percent of the funds shall be used for immediate shelter and related assistance for victims of family violence and their dependents and not less than 25 percent of the funds distributed shall be used to provide related assistance (section 303(g)).

(b) That any grants made to an entity other than a State or Tribe will meet the matching requirements in section 303(f), i.e., not less than 20 percent of the total funds provided for a project under Chapter 110 of Title 42 of the U.S. Code with respect to an existing program, and with respect to an entity intending to operate a new program under this title, not less than 35 percent. The local share will be cash or in-kind; and the local share will not include any Federal funds provided under any authority other than this chapter (section 303(f)).

(c) That grant funds made available under FVPSA will not be used as direct payment to any victim or dependent of a victim of family violence (section 303(d)).

(d) That no income eligibility standard will be imposed on individuals receiving assistance or services supported with funds appropriated to carry out FVPSA (section 303(e)).

(e) That the address or location of any shelter or facility assisted under FVPSA will not be made public, except with the written authorization of the person or persons responsible for the operations of such shelter (section 303(a)(2)(E)).

(f) That a law or procedure has been implemented for the eviction of an abusing spouse from a shared household (section 303(a)(2)(F)).

(g) That all grants, programs or other activities funded by the State in whole or in part with funds made available under FVPSA will prohibit discrimination on the basis of age, handicap, sex, race, color, national origin or religion (section 307).

(h) That the applicant will comply with the applicable Departmental recordkeeping and reporting requirements and general requirements for the administration of grants under 45 CFR Part 92.

Certifications

All applications must submit or comply with the required certifications found in the Appendices as follows:

Anti-Lobbying Certification and Disclosure Form (See Appendix A): Applicants who have used non-Federal funds for lobbying activities in connection with receiving assistance under this announcement shall complete a disclosure form, if applicable, with their applications (approved by OMB under control number 0348-0046). Applicants should sign and return the certification with their application.

Certification Regarding Environmental Tobacco Smoke (See Appendix B): Applicants must also understand they will be held accountable for the smoking prohibition included within P.L. 103-227, Title XII Environmental Tobacco Smoke (also known as the Pro-Children Act of 1994). A copy of the Federal Register notice, which implements the smoking prohibition is included with the forms. By signing and submitting the application, applicants are providing the certification and need not mail back the certification with the application.

Certification Regarding Drug-Free Workplace Requirements (See Appendix C): The signature on the application by the chief program official attests to the applicant's intent to comply with the Drug-Free Workplace requirements and compliance with the Debarment Certification. The Drug-Free Workplace certification does not have to be returned with the application.

These certifications also may be found at http://www.acf.hhs.gov/programs/ofs/forms.htm.

Notification Under Executive Order 12372

The review and comment provisions of the Executive Order (E.O.) and Part 100 do not apply. Federally recognized Tribes are exempt from all provisions and requirements of E.O. 12372.

Applications should be sent to: Family Violence Prevention and Services Program, Family and Youth Services Bureau, Administration on Children, Youth, and Families, Administration for Children and Families, Attention: William D. Riley, 1250 Maryland Avenue, SW., Room 8402, Washington, DC 20024.

V. Approval/Disapproval of a Tribal or Tribal Organization Application

The Secretary of HHS will approve any application that meets the requirements of FVPSA and this announcement. The Secretary will not disapprove an application except after reasonable notice of the Secretary's intention to disapprove has been provided to the applicant and after a six-month period providing an opportunity for the applicant to correct any deficiencies.

The notice of intention to disapprove will be provided to the applicant within 45 days of the date of the application.

VI. Reporting Requirements

Performance Reports

A performance report must be filed with HHS describing the activities carried out, and including an assessment of the effectiveness of those activities in achieving the purposes of the grant. A section of this performance report must be completed by each grantee or sub-grantee that performed the direct services contemplated in the application certifying performance of such services. Consortia grantees should compile performance reports into a comprehensive report for submission.

The Performance Report should include the following data elements:

Funding—The total amount of the FVPSA grant funds awarded; the percentage of funding used for shelters, and the percentage of funding used for related assistance and services.

Shelters—The number of shelters and shelter programs (safe homes/motels, etc.) assisted by FVPSA program funding. Data elements should include:

• The number of shelters

• The number of women sheltered

• The number of young children sheltered (birth-12 years of age)

• The number of teenagers and young adults sheltered (13-17 years of age)

• The number of men sheltered

• The average length of stay

• The number of women, children, teens, and others who were turned away because shelter was unavailable

• The number of women, children, teens, and others who were referred to other shelters due to lack of space

Types of individuals served—Record information by numbers and percentages of the total population served. Individuals and special populations served should include:

• The elderly

• Individuals with physical challenges

Related assistance and services—List the types of related assistance and services provided to victims and their family members by indicating the number of women, children, and men who have received services. Services and assistance may include, but are not limited to, the following:

• Individual counseling

• Services to children

• Crisis intervention hotline

• Information and referral

• Batterers' support services

• Legal advocacy services

• Transportation

• Services to teenagers

• Emergency child care

• Training and technical assistance

• Housing advocacy

Volunteers—List the total number of volunteers and hours worked.

Service referrals—List the number of women, children, and men referred for the following services:

• Physical abuse

• Alcohol abuse

• Drug abuse

• Batterer intervention services

• Child abuse

• Witnessed abuse

• Emergency medical intervention

• Law enforcement intervention

The performance report should include narratives of success stories about services provided and the positive impact on the lives of children and families. Examples may include the following:

• An explanation of the activities carried out, including an assessment of the major activities supported by the family violence funds; what particular priorities within the Tribe or Tribal organization were addressed; and what special emphases were placed on these activities; A description of the specific services and facilities that the applicant program funded, contracted with, or otherwise used in the implementation of its program, e.g., shelters, safe houses, related assistance, programs for batterers;

• An assessment of the effectiveness of the direct service activities contemplated in the application;

• A description of how the needs of under-served populations, including those persons geographically isolated, were addressed; and

• A description and assessment of the prevention activities supported during the program year, e.g., community education events, and public awareness efforts.

Performance reports for Tribes and Tribal organizations are due at the end of every calendar year (December 29). Performance reports should be sent to: Family Violence Prevention and Services Program, Family and Youth Services Bureau, Administration on Children, Youth and Families, Administration for Children and Families, Attn: William Riley, 1250 Maryland Avenue, SW., Room 8402, Washington, DC 20024.

Financial Status Reports

Grantees must submit annual Financial Status Reports. The first SF-269A is due December 29, 2007. It covers expenditures from date of award through September 30, 2007. The interim SF-269A is due December 29, 2008. The final SF-269A is due December 29, 2009. SF-269A can be found at: http://www.whitehouse.gov/omb/grants/grantsforms.html.

Completed reports may be mailed to: Rachel Hickson, Division of Mandatory Grants, Office of Grants Management, Administration for Children and Families, 370 L'Enfant Promenade, SW., Washington, DC 20447.

Grantees have the option of submitting their reports online through the Online Data Collection (OLDC) system at the following address: https://extranet.acf.hhs.gov/ssi/. The Division of Mandatory Grants can assist grantees with access to OLDC.

Failure to submit reports on time may be a basis for withholding grant funds, suspension, or termination of the grant. In addition, all funds reported after the obligation period will be recouped.

VII. Administrative and National Policy Requirements

Tribes and Tribal Organizations will comply with the applicable Departmental recordkeeping and reporting requirements and general requirements for the administration of grants under 45 CFR part 92.

Direct Federal grants, sub-award funds, or contracts under this ACF program shall not be used to support inherently religious activities such as religious instruction, worship, or proselytization. Therefore, organizations must take steps to separate, in time or location, their inherently religious activities from the services funded under this program. Regulations pertaining to Equal Treatment for Faith-Based Organizations, which includes the prohibition against Federal funding of inherently religious activities, can be found at the HHS Web site at http://www.hhs.gov/fbci/regs.html.

Faith-based and community organizations may reference the “Guidance to Faith-Based and Community Organizations on Partnering with the Federal Government” at http://www.whitehouse.gov/government/fbci/guidance/index.html.

VIII. Other Information

For Further Information Contact: Shena Williams at (202) 205-9532 or e-mail at swilliams1@acf.hhs.gov; William D. Riley at (202) 401-5529 or e-mail at wriley@acf.hhs.gov; or Millicent Crawford at (202) 205-7746 or e-mail at mcrawford@acf.hhs.gov.

Dated: January 4, 2007.
Joan E. Ohl,
Commissioner, Administration on Children, Youth, and Families.

Appendices: Required Certifications

A. Certification Regarding Lobbying

B. Certification Regarding Environmental Tobacco Smoke

C. Drug-Free Workplace Requirements

Appendix A—Certification Regarding Lobbying

Certification for Contracts, Grants, Loans, and Cooperative Agreements

The undersigned certifies, to the best of his or her knowledge and belief, that:

(1) No Federal appropriated funds have been paid or will be paid, by or on behalf of the undersigned, to any person for influencing or attempting to influence an officer or employee of an agency, a Member of Congress, an officer or employee of Congress, or an employee of a Member of Congress in connection with the awarding of any Federal contract, the making of any Federal grant, the making of any Federal loan, the entering into of any cooperative agreement, and the extension, continuation, renewal, amendment, or modification of any Federal contract, grant, loan, or cooperative agreement.

(2) If any funds other than Federal appropriated funds have been paid or will be paid to any person for influencing or attempting to influence an officer or employee of any agency, a Member of Congress, an officer or employee of Congress, or an employee of a Member of Congress in connection with this Federal contract, grant, loan, or cooperative agreement, the undersigned shall complete and submit Standard Form-LLL, “Disclosure Form to Report Lobbying,” in accordance with its instructions.

(3) The undersigned shall require that the language of this certification be included in the award documents for all subawards at all tiers (including subcontracts, subgrants, and contracts under grants, loans, and cooperative agreements) and that all subrecipients shall certify and disclose accordingly. This certification is a material representation of fact upon which reliance was placed when this transaction was made or entered into. Submission of this certification is a prerequisite for making or entering into this transaction imposed by section 1352, title 31, U.S. Code. Any person who fails to file the required certification shall be subject to a civil penalty of not less than $10,000 and not more than $100,000 for each such failure.

Statement for Loan Guarantees and Loan Insurance

The undersigned states, to the best of his or her knowledge and belief, that:

If any funds have been paid or will be paid to any person for influencing or attempting to influence an officer or employee of any agency, a Member of Congress, an officer or employee of Congress, or an employee of a Member of Congress in connection with this commitment providing for the United States to insure or guarantee a loan, the undersigned shall complete and submit Standard Form-LLL, “Disclosure Form to Report Lobbying,” in accordance with its instructions. Submission of this statement is a prerequisite for making or entering into this transaction imposed by section 1352, title 31, U.S. Code. Any person who fails to file the required statement shall be subject to a civil penalty of not less than $10,000 and not more than $100,000 for each such failure.

Signature

Title

Organization

Appendix B—Certification Regarding Environmental Tobacco Smoke

Public Law 103-227, Part C Environmental Tobacco Smoke, also known as the Pro Children Act of 1994 (Act), requires that smoking not be permitted in any portion of any indoor routinely owned or leased or contracted for by an entity and used routinely or regularly for provision of health, day care, education, or library services to children under the age of 18, if the services are funded by Federal programs either directly or through State or local governments, by Federal grant, contract, loan, or loan guarantee. The law does not apply to children's services provided in private residences, facilities funded solely by Medicare or Medicaid funds, and portions of facilities used for inpatient drug or alcohol treatment. Failure to comply with the provisions of the law may result in the imposition of a civil monetary penalty of up to $1000 per day and/or the imposition of an administrative compliance order on the responsible entity. By signing and submitting this application the applicant/grantee certifies that it will comply with the requirements of the Act.

The applicant/grantee further agrees that it will require the language of this certification be included in any subawards which contain provisions for the children's services and that all subgrantees shall certify accordingly.

Appendix C—Certification Regarding Drug-Free Workplace Requirements

This certification is required by the regulations implementing the Drug-Free Workplace Act of 1988: 45 CFR Part 76, Subpart, F. Sections 76.630(c) and (d)(2) and 76.645(a)(1) and (b) provide that a Federal agency may designate a central receipt point for STATE-WIDE AND STATE AGENCY-WIDE certifications, and for notification of criminal drug convictions. For the Department of Health and Human Services, the central point is: Division of Grants Management and Oversight, Office of Management and Acquisition, Department of Health and Human Services, Room 517-D, 200 Independence Avenue, SW., Washington, DC 20201.

Certification Regarding Drug-Free Workplace Requirements (Instructions for Certification)

1. By signing and/or submitting this application or grant agreement, the grantee is providing the certification set out below.

2. The certification set out below is a material representation of fact upon which reliance is placed when the agency awards the grant. If it is later determined that the grantee knowingly rendered a false certification, or otherwise violates the requirements of the Drug-Free Workplace Act, the agency, in addition to any other remedies available to the Federal Government, may take action authorized under the Drug-Free Workplace Act.

3. For grantees other than individuals, Alternate I applies.

4. For grantees who are individuals, Alternate II applies.

5. Workplaces under grants, for grantees other than individuals, need not be identified on the certification. If known, they may be identified in the grant application. If the grantee does not identify the workplaces at the time of application, or upon award, if there is no application, the grantee must keep the identity of the workplace(s) on file in its office and make the information available for Federal inspection. Failure to identify all known workplaces constitutes a violation of the grantee's drug-free workplace requirements.

6. Workplace identifications must include the actual address of buildings (or parts of buildings) or other sites where work under the grant takes place. Categorical descriptions may be used (e.g., all vehicles of a mass transit authority or State highway department while in operation, State employees in each local unemployment office, performers in concert halls or radio studios).

7. If the workplace identified to the agency changes during the performance of the grant, the grantee shall inform the agency of the change(s), if it previously identified the workplaces in question (see paragraph five).

8. Definitions of terms in the Nonprocurement Suspension and Debarment common rule and Drug-Free Workplace common rule apply to this certification. Grantees' attention is called, in particular, to the following definitions from these rules:

Controlled substance means a controlled substance in Schedules I through V of the Controlled Substances Act (21 U.S.C. 812) and as further defined by regulation (21 CFR 1308.11 through 1308.15);

Conviction means a finding of guilt (including a plea of nolo contendere) or imposition of sentence, or both, by any judicial body charged with the responsibility to determine violations of the Federal or State criminal drug statutes;

Criminal drug statute means a Federal or non-Federal criminal statute involving the manufacture, distribution, dispensing, use, or possession of any controlled substance;

Employee means the employee of a grantee directly engaged in the performance of work under a grant, including: (i) All direct charge employees; (ii) All indirect charge employees unless their impact or involvement is insignificant to the performance of the grant; and, (iii) Temporary personnel and consultants who are directly engaged in the performance of work under the grant and who are on the grantee's payroll. This definition does not include workers not on the payroll of the grantee (e.g., volunteers, even if used to meet a matching requirement; consultants or independent contractors not on the grantee's payroll; or employees of subrecipients or subcontractors in covered workplaces).

Certification Regarding Drug-Free Workplace Requirements

Alternate I. (Grantees Other Than Individuals)

The grantee certifies that it will or will continue to provide a drug-free workplace by:

(a) Publishing a statement notifying employees that the unlawful manufacture, distribution, dispensing, possession, or use of a controlled substance is prohibited in the grantee's workplace and specifying the actions that will be taken against employees for violation of such prohibition;

(b) Establishing an ongoing drug-free awareness program to inform employees about—

(1) The dangers of drug abuse in the workplace;

(2) The grantee's policy of maintaining a drug-free workplace;

(3) Any available drug counseling, rehabilitation, and employee assistance programs; and

(4) The penalties that may be imposed upon employees for drug abuse violations occurring in the workplace;

(c) Making it a requirement that each employee to be engaged in the performance of the grant be given a copy of the statement required by paragraph (a);

(d) Notifying the employee in the statement required by paragraph (a) that, as a condition of employment under the grant, the employee will—

(1) Abide by the terms of the statement; and

(2) Notify the employer in writing of his or her conviction for a violation of a criminal drug statute occurring in the workplace no later than five calendar days after such conviction;

(e) Notifying the agency in writing, within 10 calendar days after receiving notice under paragraph (d)(2) from an employee or otherwise receiving actual notice of such conviction. Employers of convicted employees must provide notice, including position title, to every grant officer or other designee on whose grant activity the convicted employee was working, unless the Federal agency has designated a central point for the receipt of such notices. Notice shall include the identification number(s) of each affected grant;

(f) Taking one of the following actions, within 30 calendar days of receiving notice under paragraph (d)(2), with respect to any employee who is so convicted—

(1) Taking appropriate personnel action against such an employee, up to and including termination, consistent with the requirements of the Rehabilitation Act of 1973, as amended; or

(2) Requiring such employee to participate satisfactorily in a drug abuse assistance or rehabilitation program approved for such purposes by a Federal, State, or local health, law enforcement, or other appropriate agency;

(g) Making a good faith effort to continue to maintain a drug-free workplace through implementation of paragraphs (a), (b), (c), (d), (e) and (f).

(B) The grantee may insert in the space provided below the site(s) for the performance of work done in connection with the specific grant:

Place of Performance (Street address, city, county, state, zip code)

Check if there are workplaces on file that are not identified here.

Alternate II. (Grantees Who Are Individuals)

(a) The grantee certifies that, as a condition of the grant, he or she will not engage in the unlawful manufacture, distribution, dispensing, possession, or use of a controlled substance in conducting any activity with the grant;

(b) If convicted of a criminal drug offense resulting from a violation occurring during the conduct of any grant activity, he or she will report the conviction, in writing, within 10 calendar days of the conviction, to every grant officer or other designee, unless the Federal agency designates a central point for the receipt of such notices. When notice is made to such a central point, it shall include the identification number(s) of each affected grant.

[FR Doc. E7-372 Filed 1-12-07; 8:45 am]

BILLING CODE 4184-01-P